DEPARTMENT OF TRANSPORTATION

Federal Aviation Administration

14 CFR Part 39

[Docket No. FAA-2006-26166; Directorate Identifier 2006-CE-58-AD; Amendment 39-14992; AD 2007-06-11]

RIN 2120-AA64

Airworthiness Directives; EADS SOCATA Model TBM 700 Airplanes

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

Cracks on a vertical stabilizer attachment fitting due to corrosion, have been found on an aircraft in service.

We are issuing this AD to require actions to correct the unsafe condition on these products.

DATES: This AD becomes effective April 20, 2007.

The Director of the Federal Register approved the incorporation by reference of certain publications listed in this AD as of April 20, 2007.

ADDRESSES: You may examine the AD docket on the Internet at http://dms.dot.gov or in person at the Docket Management Facility, U.S. Department of Transportation, 400 Seventh Street, SW., Nassif Building, Room PL-401, Washington, DC.

FOR FURTHER INFORMATION CONTACT: Albert J. Mercado, Aerospace Engineer, FAA, Small Airplane Directorate, 901 Locust, Room 301, Kansas City, Missouri, 64106; telephone: (816) 329-4119; fax: (816) 329-4090.

SUPPLEMENTARY INFORMATION:

Streamlined Issuance of AD

The FAA is implementing a new process for streamlining the issuance of ADs related to MCAI. The streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

We issued a notice of proposed rulemaking (NPRM) to amend 14 CFR part 39 to include an AD that would apply to the specified products. That NPRM was published in the Federal Register on November 17, 2006 (71 FR 66889). That NPRM proposed to correct an unsafe condition for the specified products. The MCAI states that:

Cracks on a vertical stabilizer attachment fitting due to corrosion, have been found on an aircraft in service.

Comments

We gave the public the opportunity to participate in developing this AD. We considered the comments received.

EADS SOCATA gave comments addressing the following:

Comment Issue No. 1: Costs of Compliance

EADS SOCATA comments that the proposed AD specifies it would take 4 work-hours per product to comply with the proposed AD, but according to EADS SOCATA, it would take 3.5 work-hours.

The FAA agrees and will incorporate that change into the final rule Costs of Compliance section.

Comment Issue No. 2: Service Bulletin Compliance

Quest Diagnostics comments that as an operator of 4 TBM 700 aircraft with over 25,000 hours time-in-service (TIS) and more than 35,000 cycles of operating experience they have been performing the requirements of EADS SOCATA Service Bulletin (SB) 70-104 since its publication in 2004. They have found in their experience that step 5 of the SB, which requires an additional step to perform a “penetrante inspection” to the bores of the fitting and attachment on the rear fitting, is impractical if not impossible to complete. They found that because this attachment area comprises a “sandwich” of attachment lugs any penetrant applied to this area in situ is absorbed between the layers and becomes impossible to clean without removing the fin completely. Further, they found, since each assembly is nearly 1 inch thick, there is severely limited visual access to the entire bore, particularly in the middle section. They contracted the services of a Level 3 Nondestructive Testing (NDT) inspector to perform a Rotary Gun Eddy Current Inspection of the fitting area. They discussed this situation with the EADS SOCATA Service Center in Pembroke Pines, Florida; came to the conclusion this is the only practical approach to completing this inspection without removal of the vertical fin; and feel the published procedure is inadequate for the purposes of detecting cracks in this area.

EADS SOCATA has since released SB 70-104 Amendment 2, dated January 2007. The revised service bulletin allows crack detection by penetrant inspection or other equivalent process (eddy current* * *) on the bores of the vertical stabilizer fitting and attachments. The revised service bulletin Amendment 2 will be incorporated into the AD, and the FAA will give 100 percent credit for doing the action with Amendment 1 of the Service Bulletin.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 205 products of U.S. registry. We also estimate that it will take about 3.5 work-hours per product to comply with basic requirements of this AD. The average labor rate is $80 per work-hour. Required parts will cost about $3,000 per product. Where the service information lists required parts costs that are covered under warranty, we have assumed that there will be no charge for these parts. As we do not control warranty coverage for affected parties, some parties may incur costs higher than estimated here. Based on these figures, we estimate the cost of this AD to the U.S. operators to be $672,400, or $3,280 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5227) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-06-11 EADS SOCATA Model TBM 700 Airplanes: Amendment 39-14992; Docket No. FAA-2006-26166; Directorate Identifier 2006-CE-58-AD.

Effective Date

(a) This airworthiness directive (AD) becomes effective April 20, 2007.

Affected ADs

(b) None.

Applicability

(c) This AD applies to SOCATA TBM 700 airplanes, serial numbers 1 through 308, plus the serial number 310, certificated in any category.

Note 1: This AD does not apply to airplanes in which both modifications No. MOD70-127-55 and MOD70-129-53 have been factory installed.

Reason

(d) The mandatory continuing airworthiness information (MCAI) states that:

Cracks on a vertical stabilizer attachment fitting due to corrosion have been found on an aircraft in service.

Actions and Compliance

(e) Unless already done, do the following actions.

(1) Within the next 600 hours time-in-service (TIS) or the next 12 months, whichever occurs first, after the effective date of this AD, inspect the vertical stabilizer attachment fittings and bolts for cracks or corrosion, and, if necessary, repair or replace the damaged part and then apply a corrosion protection reinforcement, following EADS SOCATA Service Bulletin SB 70-104, Amendment 1, dated August 2004 or EADS SOCATA TBM Aircraft Mandatory Service Bulletin SB 70-104, Amendment 2, dated January 2007.

(2) Repeat the actions of paragraph (e)(1) every 1,200 hours TIS or every 24 months, whichever occurs first, following EADS SOCATA Service Bulletin SB 70-104, Amendment 1, dated August 2004 or EADS SOCATA Service Bulletin SB 70-104, Amendment 2, dated January 2007.

FAA AD Differences

Note 2: This AD differs from the MCAI and/or service information as follows: This AD permits Amendment 2 of the SB to be used.

Other FAA AD Provisions

(f) The following provisions also apply to this AD:

(1) Alternative Methods of Compliance (AMOCs): The Manager, Standards Staff, FAA, ATTN: Albert J. Mercado, Aerospace Engineer, FAA, Small Airplane Directorate, 901 Locust, Room 301, Kansas City, Missouri 64106; telephone: (816) 329-4119; fax: (816) 329-4090, has the authority to approve AMOCs for this AD, if requested using the procedures found in 14 CFR 39.19. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(g) Refer to Direction générale de l'aviation civile (DGAC) AD No F-2003-366 R1, dated November 24, 2004; EADS SOCATA TBM Aircraft Mandatory Service Bulletin SB 70-104, Amendment 1, dated August 2004; and EADS SOCATA TBM Aircraft Mandatory Service Bulletin SB 70-104, Amendment 2, dated January 2007 for related information.

Material Incorporated by Reference

(h) You must use EADS SOCATA TBM Aircraft Mandatory Service Bulletin No. SB 70-104, Amendment 1, dated August 2004, or EADS SOCATA TBM Aircraft Mandatory Service Bulletin No. SB 70-104, Amendment 2, dated January 2007 to do the actions required by this AD, unless the AD specifies otherwise.

(1) The Director of the Federal Register approved the incorporation by reference of this service information under 5 U.S.C. 552(a) and 1 CFR part 51.

(3) For service information identified in this AD, contact EADS SOCATA, Direction des Services, 65921 Tarbes Cedex 9, France.

(4) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on March 7, 2007.
David R. Showers,
Acting Manager, Small Airplane Directorate, Aircraft Certification Service.

[FR Doc. E7-4724 Filed 3-15-07; 8:45 am]

BILLING CODE 4910-13-P